DEPARTMENT OF THE INTERIOR

Fish and Wildlife Service

[FWS-R4-ES-2014-N025; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by April 10, 2014.

ADDRESSES: Reviewing Documents: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Angela Romito, Permit Coordinator). How to Submit Comments: See Submitting Comments, under SUPPLEMENTARY INFORMATION.

FOR FURTHER INFORMATION CONTACT: Angela Romito, Permit Coordinator, by telephone at 404-679-7101, or by facsimile at 404-679-7081.

SUPPLEMENTARY INFORMATION:

Introduction

The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

Submitting Comments

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Public Availability of Comments

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE79580A

Applicant: Jason Butler, Lexington, Kentucky

The applicant requests authorization to amend his permit to take (capture, mark, apply transmitters, track, survey) the Indiana bat (Myotis sodalis), northern long-eared bat (Myotis septentrionalis), gray bat (M. grisescens), and Virginia big-eared bat (Corynorhinus townsendii virginianus) in Kentucky, while conducting presence/absence surveys, studies to document habitat use, and population monitoring.

Permit Application Number: TE23583B

Applicant: Holly Ober, Quincy, Florida

The applicant requests authorization to take (capture, mark, apply transmitters, track, survey) the Florida bonneted bat (Eumops floridanus) in Florida, while conducting presence/absence surveys, studies to document habitat use, and population monitoring.

Permit Application Number: TE171545

Applicant: Ronald K. Redman, Benton, Arkansas

The applicant requests authorization to capture, examine, and release gray bat (Myotis grisescens), Indiana bat (Myotis sodalis), northern long-eared bat (Myotis septentrionalis), and Ozark big-eared bat (Corynorhinus townsendii ingens), to survey for occurrences throughout Arkansas.

Permit Application Number: TE24030B-0

Applicant: Magdalena Rodriguez, Miami, Florida

The applicant requests authorization to hold for veterinary treatment, to retain unreleasable specimens, or to euthanize specimens of Kemp's ridley (Lepidochelys kempii), hawksbill (Eretmochelys imbricata), leatherback (Dermochelys coriacea), green (Chelonia mydas), and loggerhead (Caretta caretta) sea turtles. Treatment facilities are at the Miami Seaquarium, but specimens may be accepted from authorized sources throughout Florida and other southeastern states.

Permit Application Number: TE24053B-0

Applicant: Gulf Specimen Marine Laboratory, Panacea, Florida

The applicant requests authorization to hold for veterinary treatment, tag, retain unreleasable specimens, or euthanize specimens of Kemp's ridley (Lepidochelys kempii), hawksbill (Eretmochelys imbricata), green (Chelonia mydas), and loggerhead (Caretta caretta) sea turtles. Treatment facilities are at the Gulf Specimen Marine Laboratory, but specimens may be accepted from authorized sources throughout Florida and other southeastern states.

Permit Application Number: TE24343B

Applicant: EGIS, Inc., Bentonville, Arkansas

The applicant requests authorization to take the American burying beetle (Nicrophorus americanus) while surveying for its occurrence throughout Arkansas, Kansas, Missouri, and Oklahoma.

Permit Application Number: TE011542-9

Applicant: Conservation Fisheries Incorporated. Knoxville, Tennessee

The applicant requests authorization to renew their existing permit to take endangered fish species for captive propagation, genetic research, presence/absence surveys, and other research activities. The applicant has also requested to amend their current permit to add the diamond darter (Crystallaria cincotta) and spring pygmy sunfish (Elassoma alabamae) to their list of species and to increase amount of take for boulder darter (Etheostoma wapiti) from 12 adults to 16 adults throughout the range of these species.

Permit Application Number: TE-91366A

Applicant: Dr. Paul Stewart, Troy, Alabama

Applicant requests authorization to add waters of the State of Florida to their existing permit authorizing take (capture, translocate, collect voucher specimens, and release) of aquatic species.

Permit Application Number: TE-91373A

Applicant: Jonathan Miller, Troy, Alabama

Applicant requests authorization to add waters of the state of Florida their existing permit authorizing take (capture, translocate, collect voucher specimens, and release) of aquatic species.

Permit Application Number: TE171488-2

Applicant: Walt Disney World Living Seas, Lake Buena Vista, Florida

The applicant requests authorization to hold for veterinary treatment, to retain unreleasable specimens, or to euthanize specimens of Kemp's ridley (Lepidochelys kempii), hawksbill (Eretmochelys imbricata), leatherback (Dermochelys coriacea), green (Chelonia mydas), loggerhead (Caretta caretta), and olive ridley (Lepidochelys olivacea) sea turtles. Treatment facilities are at Walt Disney World Living Seas, but specimens may be accepted from authorized sources throughout Florida and other southeastern states.

Permit Application Number: TE20020A-3

Applicant: Dr. Reed Noss, University of Central Florida, TE-20020A

The applicant requests authorization to take Florida grasshopper sparrows (Ammodramus savannarum floridanus) through capture and banding. This activity will take place on State and Federal lands in Okeechobee, Osceola, Highlands, and Polk Counties, Florida.

Permit Application Number: TE25057B-0

Applicant: Nicole Angeli, College Station, Texas

The applicant requests authorization to take (capture, mark, measure, collect tissue, track, survey) the Saint Croix ground lizard (Ameiva polops) in Saint Croix, while conducting population and genetic studies.

Permit Application Number: TE102292-10

Applicant: Jeremy Jackson, Richmond, Kentucky

The applicant requests authorization to amend his current permit to take (capture, mark, apply transmitters, track, survey) the Indiana bat (Myotis sodalis), gray bat (M. grisescens), and Virginia big-eared bat (Corynorhinus townsendii virginianus) in West Virginia, Virginia, Ohio, Pennsylvania, Alabama, Arkansas, Tennessee, North Carolina, Kentucky, Illinois, Indiana, Missouri, New York, Georgia, and Mississippi, while conducting presence/absence surveys, studies to document habitat use, and population monitoring.

Permit Application Number: TE054963-6

Applicant: Heather Barron, Sanibel, Florida

The applicant requests authorization to hold for veterinary treatment, to retain unreleasable specimens, or to euthanize specimens of Kemp's ridley (Lepidochelys kempii), hawksbill (Eretmochelys imbricata), leatherback (Dermochelys coriacea), green (Chelonia mydas), loggerhead (Caretta caretta) and olive ridley (Lepidochelys olivacea) sea turtles. Treatment facilities are at CROW Wildlife Hospital, but specimens may be accepted from authorized sources throughout Florida and other southeastern states.

Permit Application Number: TE26395B-0

Applicant: Montgomery Zoo, Montgomery, Alabama

The applicant requests authorization to purchase in interstate commerce six American crocodiles (Crocodylus acutus) from Jerry Motta, Bushnell, Florida.

Permit Application Number: TE-27608B

Applicant: McGehee Engineering Incorporated, Jasper, Alabama

Applicant requests authorization to conduct presence/absence surveys and other research activities on aquatic species throughout Alabama. The applicant also requests authorization to capture, examine, and release gray bat (Myotis grisescens) and Indiana bat (Myotis sodalis), to survey for occurrences throughout Alabama.

Dated: February 24, 2014.
Cynthia K. Dohner,
Regional Director.

[FR Doc. 2014-05197 Filed 3-10-14; 8:45 am]

BILLING CODE 4310-55-P